CORPORATION FOR NATIONAL AND COMMUNITY SERVICE

45 CFR Parts 2550, 2551, 2552, 2553

RIN 3045-AA91

Restrictions on Operation of AmeriCorps Seniors Programs

AGENCY: Corporation for National and Community Service.

ACTION: Advance notice of proposed rulemaking; request for comments.

SUMMARY: The Corporation for National and Community Service (operating as AmeriCorps) is requesting comment on certain restrictions on the operation of AmeriCorps Seniors programs. These restrictions, which are contained in AmeriCorps' current regulations, include a prohibition on State Commissions operating AmeriCorps Seniors programs, a prohibition on AmeriCorps Seniors grantees delegating or contracting overall management responsibilities to another entity, a limitation on for-profit childcare organizations' facilities being used as volunteer sites, and the requirement for AmeriCorps Seniors grantees to carry certain types of insurance. This advance notice of proposed rulemaking (ANPRM) seeks public input on whether these prohibitions and requirements should be retained without change, modified, or removed.

DATES: Written comments must be submitted by February 10, 2025.

ADDRESSES: You may send your comments electronically through the Federal Government's one-stop rulemaking website at www.regulations.gov. You may also send your comments to Elizabeth Appel, Associate General Counsel, at eappel@americorps.gov or by mail to AmeriCorps (ATTN: Elizabeth Appel), 250 E Street SW, Washington, DC 20525.

FOR FURTHER INFORMATION CONTACT: Robin Corindo, Deputy Director, AmeriCorps Seniors, at rcorindo@americorps.gov, (202) 489-5578.

SUPPLEMENTARY INFORMATION:

AmeriCorps Seniors operates four programs: the Senior Companion Program (SCP), Foster Grandparent Program (FGP), Retired and Senior Volunteer Program (RSVP), and a Senior Demonstration Program. This ANPRM requests public comment on four specific prohibitions and restrictions applicable to these programs, as explained below.

1. Restriction on State Commissions Operating AmeriCorps Seniors Programs

State Commissions are prohibited by regulation from directly carrying out any national service program under title II of the Domestic Volunteer Service Act of 1973, as amended (DVSA), 42 U.S.C. 4950 et seq. See 45 CFR 2550.80(j). Those programs include the four programs operated by AmeriCorps Seniors. A separate regulatory provision prohibits any AmeriCorps Seniors grantee from delegating or contracting overall management responsibilities to another entity. See 42 CFR 2551.22 (SCP), 2552.22 (FGP), and 2553.22 (RSVP). Together, these two restrictions effectively create a categorical ban on State Commissions being AmeriCorps Seniors grantees—as they can neither directly operate nor delegate/contract the program.

There is no statutory prohibition on State Commissions operating AmeriCorps Seniors programs. There is a statutory prohibition on State Commissions directly carrying out programs receiving AmeriCorps State and National (ASN) grants. See 42 U.S.C. 12638(h). In 1993, a regulatory provision expanding on this statutory prohibition was issued to also prohibit Commissions from operating AmeriCorps Seniors or VISTA programs. See 58 FR 60978 (November 18, 1993) (providing no explanation for expansion of the prohibition). In 2005, AmeriCorps removed VISTA programs from the regulatory prohibition, but retained the prohibition for AmeriCorps Seniors programs. See 70 FR 39562 (July 8, 2005). The reasons stated for retaining the prohibition on State Commissions were that the Agency did not believe that, without the ability to delegate or subgrant program management, most State Commissions were in a position to operate AmeriCorps Seniors programs directly, and that local organizations were in the best position to identify local needs and operate AmeriCorps Seniors programs. Id. at 39594. The Agency also stated that it received no indication that State commissions were eager to operate AmeriCorps Seniors programs. Id.

Since that time, it has become evident that at least one of the justifications for the regulatory prohibitions no longer exists. There is some State Commission interest in operating AmeriCorps Seniors programs, as demonstrated by the fact that some State Commissions have applied to operate AmeriCorps Seniors programs and some are currently operating AmeriCorps Seniors programs under a waiver of the regulatory prohibition. However, given the statutory prohibition on State Commissions directly carrying out programs that receive ASN grants, the State Commissions generally do not operate programs themselves; rather, they facilitate the provision of grant funding to other more locally based organizations. See generally, 42 U.S.C. 12638(e) (Duties of a State Commission). AmeriCorps therefore requests public input on whether to retain, modify, or remove the regulatory prohibition on State commissions directly operating AmeriCorps Seniors programs and the reasoning for retaining, modifying, or removing the regulatory prohibition.

2. Restrictions on AmeriCorps Seniors Grantees Delegating or Contracting

The current regulations require AmeriCorps Seniors grantees to fulfill all project management requirements necessary to accomplish the purposes of the program and prohibit them from delegating or contracting (i.e., subcontracting) the overall management responsibilities to another entity. See 45 CFR 2551.22, 2552.22, and 2553.22. The regulations also provide flexibility to AmeriCorps to determine what types of management responsibilities may or may not be contracted. Id. Removal of the general prohibition on delegating or subcontracting would enable small grantees to obtain assistance from outside experts on financial management. Grantees sometimes lack financial management experts in house and would benefit by subcontracting for recordkeeping, accounting, and other professional financial services. Possible benefits to this approach include freeing up time to allow in-house staff to focus on programmatic goals and reducing audit and monitoring findings that might arise from a lack of expertise in financial management systems and internal controls. Removing the prohibition on grantees delegating or contracting out management responsibilities could also increase State Commissions' ability to directly carry out AmeriCorps Seniors programs. AmeriCorps therefore seeks public comment on whether and why to retain, modify, or remove the prohibition on delegating or contracting management duties.

3. Limitation on For-Profit Childcare or Educational Centers Being Volunteer Sites for Foster Grandparents

Sponsors (grantees) in the Foster Grandparent Program are responsible for developing and managing one or more volunteer stations, including ensuring that each is a public or non-profit private organization or an eligible proprietary health care agency. See 45 CFR 2552.23(c)(1) and 2552.12 (definition of “volunteer station”). The regulations allow for proprietary health care organizations to serve as volunteer stations. Proprietary health care organizations have been included as a volunteer station type since before 1983, and in 2018, the Agency added a definition of “proprietary health care organization” as a “private, for-profit health care organization that serves one or more vulnerable populations.” See 83 FR 64636 (December 17, 2018). AmeriCorps Seniors is considering adding a similar allowance for proprietary childcare organizations, which would be defined as private, for-profit childcare or child-education organizations that serve one or more vulnerable populations with a high percentage of those populations represented in the children and families serviced. Sometimes there are no nonprofit childcare organizations in or near communities where there are children in need of Foster Grandparent services, but there are for-profit childcare organizations in the communities. Allowing childcare organizations to serve as volunteer stations, when there are not enough non-profit organizations, would help AmeriCorps Seniors volunteers, and particularly Foster Grandparent volunteers, provide services to more children and provide ways for those communities to receive the services they need. AmeriCorps therefore seeks public comment on whether to add for-profit child-care organizations to the list of organization types eligible to be a volunteer station, whether for-profit child-care organizations should be eligible to be a volunteer station only when there are no non-profit child-care organizations in or near the communities, and whether there is any basis for continuing to exclude them.

4. Requirements for Insurance

Current regulations require grantees (sponsors) to provide appropriate coverage for AmeriCorps Seniors volunteers, including accident insurance, personal liability insurance, and excess automobile liability insurance. See 45 CFR 2551.25, 2552.25, and 2553.25. The regulations explain each of these types of insurance and allow for reimbursement of costs associated with the insurance if grantees maintain the insurance at minimum levels set by AmeriCorps. See 45 CFR 2551.46(b), 2552.46(b), and 2553.46(b). These insurance requirements are intended to help protect both volunteers and grantees in the event of accidents or injuries that might occur during an AmeriCorps Seniors volunteer's service. However, insurance is not required by statute and some grantees find it challenging to secure it. AmeriCorps therefore seeks public comment on whether to remove the requirement for grantees to obtain insurance but retain insurance premiums as allowable costs for cost reimbursement should grantees choose to obtain the listed insurance types.

Regulatory Analyses

This ANPRM was developed in accordance with the principles of Executive Order (E.O.) 12866, “Regulatory Planning and Review,” E.O. 13563, “Improving Regulation and Regulatory Review,” and E.O. 14094, “Modernizing Regulatory Review.” Since this action is an ANPRM, it does not create, or propose to create, any new requirements. Therefore, this regulatory action is not significant under section 3(f) of E.O. 12866.

The requirements of the Regulatory Flexibility Act (5 U.S.C. 601 et seq.) do not apply to this action because at this stage, it is an ANPRM and not a “rule” as defined in 5 U.S.C. 601. Following review of the comments received in response to this ANPRM, if AmeriCorps proceeds with a notice of proposed rulemaking regarding this matter, AmeriCorps will conduct all relevant analyses as required by statute or Executive Order.

Andrea Grill,
Acting General Counsel.

[FR Doc. 2024-28765 Filed 12-11-24; 8:45 am]

BILLING CODE 6050-28-P